ENVIRONMENTAL PROTECTION AGENCY

[EPA-HQ-OAR-2024-0036; FRL-11690-01-OAR]

Agency Information Collection Activities; Proposed Information Collection Request; Comment Request; Climate Pollution Reduction Grants (CPRG) Program Implementation Grants ICR (NEW)

AGENCY: Environmental Protection Agency (EPA).

ACTION: Notice.

SUMMARY: The Environmental Protection Agency (EPA) is planning to submit an information collection request (ICR), Climate Pollution Reduction Grants (CPRG) Program Implementation Grants ICR (NEW) (EPA ICR Number 2806.01, OMB Control Number 2060-NEW) to the Office of Management and Budget (OMB) for review and approval in accordance with the Paperwork Reduction Act. Before doing so, the EPA is soliciting public comments on specific aspects of the proposed information collection as described below. This is a request for approval of a new collection. This notice allows for 60 days for public comments.

DATES: Comments must be submitted on or before April 8, 2024.

ADDRESSES: Submit your comments, referencing Docket ID Number EPA-HQ-OAR-2024-0036, to EPA online using www.regulations.gov (our preferred method), by email to: a-and-r-docket@epa.gov, or by mail to: EPA Docket Center, Environmental Protection Agency, Mail Code 28221T, 1200 Pennsylvania Avenue NW, Washington, DC 20460. EPA's policy is that all comments received will be included in the public docket without change including any personal information provided, unless the comment includes profanity, threats, information claimed to be Confidential Business Information (CBI) or other information whose disclosure is restricted by statute.

FOR FURTHER INFORMATION CONTACT: Pam Long, Air Quality Policy Division, Office of Air Quality Planning and Standards, Mailcode C504.1, Environmental Protection Agency, Post Office Box 12055 RTP, NC 27711; telephone number: (919) 541-0641; email address: long.pam@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR as appropriate. The final ICR package will then be submitted to OMB for review and approval. At that time, the EPA will issue another Federal Register notice to announce the submission of the ICR to OMB and the opportunity to submit additional comments to OMB.

Abstract: The Climate Pollution Reduction Grants (CPRG) program was established under section 60114 of the Inflation Reduction Act (IRA) signed on August 16, 2022. Through a competitive process, EPA anticipates awarding $4.6B in CPRG implementation grants to States, municipalities, Tribes/Territories, and air quality management districts in 2024 to “facilitate the reduction of greenhouse gas air pollution.” Grantees will be required to report projected greenhouse gas (GHG) emission reductions as well as changes in other air pollutants, both in general and specifically in low-income and disadvantaged communities (LIDAC). This information will be collected to ensure accurate projections of GHGs and other air pollutant emissions both in and outside LIDAC areas for projects being funded under the CPRG program.

It is expected that the CPRG program, along with other IRA programs, will be required to demonstrate effective execution of the statutory responsibilities charged to EPA, as well as comply with any additional reporting requirements (e.g., Evidence Act, Justice40). These responsibilities necessitate standardized data collection from CPRG implementation grantees for the purposes of (1) determining the accuracy of calculations and analyses submitted by grantees, (2) assessing the compliance of grantees in performing tasks agreed to under the Terms and Conditions of CPRG implementation grants, and (3) applying information collected from CPRG implementation grantees for analytical use.

Form numbers: n/a.

Respondents/affected entities: CPRG Implementation Grant General Competition and Tribes/Territories Competition grantees.

Respondent's obligation to respond: Mandatory (to comply with CPRG grant Reporting Requirements/Terms and Conditions).

Estimated number of respondents: ~130.

Frequency of response: 1-year (General Competition) and final reports (General and Tribal Competitions).

Total estimated burden: ~47,133 hours (per year). Burden is defined at 5 CFR 1320.03(b).

Total estimated cost: ~$2,905,406 (per year), which includes $0 annualized capital or operation & maintenance costs.

Changes in the estimates: Not applicable, no current ICR.

Scott Mathias,
Director, Air Quality Policy Divison.

[FR Doc. 2024-02614 Filed 2-7-24; 8:45 am]

BILLING CODE 6560-50-P